DEPARTMENT OF THE INTERIOR

Bureau of Indian Affairs

[201A2100DD/AAKC001030/A0A501010.999900 253G; OMB Control Number 1076-0177]

Agency Information Collection Activities; Submission to the Office of Management and Budget for Review and Approval; Tribal Energy Development Capacity Program

AGENCY: Bureau of Indian Affairs, Interior.

ACTION: Notice of information collection; request for comment.

SUMMARY: In accordance with the Paperwork Reduction Act of 1995, we, the Office of the Assistant Secretary—Indian Affairs are proposing to revise an information collection.

DATES: Interested persons are invited to submit comments on or before November 27, 2020.

ADDRESSES: Send written comments on this information collection request (ICR) to the Office of Management and Budget's Desk Officer for the Department of the Interior by email at OIRA_Submission@omb.eop.gov; or via facsimile to (202) 395-5806. Please provide a copy of your comments to Ms. Winter Jojola-Talburt, Deputy Division Chief, 13922 Denver West Parkway Suite 200, Lakewood, CO 80401; or by email to winter.jojola-talburt@bia.gov. Please reference OMB Control Number 1076-0177 in the subject line of your comments.

FOR FURTHER INFORMATION CONTACT: To request additional information about this ICR, contact Ms. Winter Jojola-Talburt by email at winter.jojola-talburt@bia.gov, or by telephone at 720-407-0668. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 12, 2020 (85 FR 28035). No comments were received.

We are soliciting comments on the proposed ICR that is described below. We are especially interested in public comment addressing the following issues: (1) Is the collection necessary to the proper functions of the AS-IA; (2) will this information be processed and used in a timely manner; (3) is the estimate of burden accurate; (4) how might the AS-IA enhance the quality, utility, and clarity of the information to be collected; and (5) how might the AS-IA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Energy Policy Act of 2005 authorizes the Secretary of the Interior to provide assistance to Indian Tribes and Tribal energy resource development organizations for energy development and appropriates funds for such projects on a year-to-year basis. See 25 U.S.C. 3502. When funding is available, the Office of Indian Energy and Economic Development (IEED) may solicit proposals for projects for building capacity for Tribal energy resource development on Indian land from Tribal energy resource development organizations and Indian Tribes, including Alaska Native regional and village corporations under the TEDC program. For the purposes of this program, “Indian land” includes: all land within the boundaries of an Indian reservation, pueblo, or rancheria; any land outside those boundaries that is held by the United States in trust for a Tribe or individual Indian or by a Tribe or individual Indian with restrictions on alienation; and land owned by an Alaska Native regional or village corporation.

Those who would like to submit a TEDC project proposal must submit an application that includes certain information and, once funding is received must submit reports on how they are using the funding. A complete application must contain the following:

• A formal signed resolution of the governing body of the Tribe or Tribal energy resource development organization demonstrating authority to apply;

• A proposal describing the planned activities and deliverable products; and

• A detailed budget estimate, including contracted personnel costs, travel estimates, data collection and analysis costs, and other expenses.

The project proposal must include the information about the Tribe or Tribal energy resource development organization sufficient to allow IEED to evaluate the proposal based on the following criteria:

(a) Energy resource potential;

(b) Applicant's energy resource development history and current status;

(c) Applicant's existing energy resource development capabilities;

(d) Demonstrated willingness of the applicant to establish and maintain an independent energy resource development business entity;

(e) Intent to develop and retain energy development capacity within the applicant's government or business entities; and

(f) Applicant commitment of staff, training, or monetary resources.

The IEED requires this information to ensure that it provides funding only to those projects that meet the goals of the TEDC and the purposes for which Congress provides the appropriations.

Title of Collection: Tribal Energy Development Capacity Program.

OMB Control Number: 1076-0177.

Form Number: None.

Type of Review: Revision of a currently approved collection.

Respondents/Affected Public: Indian Tribes and Tribal energy resource development organizations under 25 U.S.C. 3502.

Total Estimated Number of Annual Respondents: 26 per year, on average; 9 project participants each year, on average.

Total Estimated Number of Annual Responses: 40 applications per year, on average; 44 progress reports per year, on average.

Estimated Completion Time per Response: 40 hours per application; 1.5 hours per progress report.

Total Estimated Number of Annual Burden Hours: 1,666 hours (1,600 for applications and 66 for progress reports).

Respondent's Obligation: Responses required to receive a benefit.

Frequency of Collection: Once per year for applications; 4 times per year for progress reports.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2020-23887 Filed 10-27-20; 8:45 am]

BILLING CODE 4337-15-P